DEPARTMENT OF HEALTH AND HUMAN SERVICES

National Institutes of Health

National Institute on Alcohol Abuse and Alcoholism; Notice of Presentation

SUMMARY: The National Institute on Alcohol Abuse and Alcoholism (NIAAA) will host an online presentation to enable public discussion of the Institute's proposal to create a new division; Division of Medications Development. The proposal seeks to better reflect the NIAAA priorities by increasing the emphasis on medications development efforts on treating alcohol use disorders (AUD). The change is budget neutral and will use existing resources within the institute. The information was discussed at the public portion of the National Advisory Council on Alcohol Abuse and Alcoholism held on June 10, 2015.

DATES: This online presentation will be available at http://www.niaaa.nih.gov/sites/default/files/Reorg_creationMedDevDivCouncil_June2015final_Accessible.pdf on July 8, 2015 at 8:00 a.m. Members of the public wishing to provide comments must do so by 5:00 p.m. EDT July 17, 2015 by sending an email to NIAAAReOrgComments@mail.nih.gov. The email should include your name and, when applicable, your professional affiliation. NIAAA will respond to your email by July 24, 2015.

FOR FURTHER INFORMATION CONTACT: Keith Lamirande, Executive Officer, Keith.Lamirande@nih.gov (301) 443-2238 or Vicki Buckley, Deputy Executive Officer, Vicki.Buckley@nih.gov (301) 443-1269, National Institute on Alcohol Abuse and Alcoholism, 5635 Fishers Lane, Rockville, MD 20852.

SUPPLEMENTARY INFORMATION: The NIH Reform Act of 2006 (42 U.S.C. 281 (d)(4)) requires public notice of proposed reorganization plans. Information about those plans are available on the Institute's Web site, http://www.niaaa.nih.gov/.

Dated: July 1, 2015.
George Koob,
Director, National Institute on Alcohol Abuse and Alcoholism.

[FR Doc. 2015-16708 Filed 7-7-15; 8:45 am]

BILLING CODE 4140-01-P